DEPARTMENT OF ENERGY

Federal Energy Regulatory Commission

[Project No. 14217-000]

Ogden City Corporation; Notice of Intent To File License Application, Filing of Pre-Application Document, and Approving Use of the Traditional Licensing Process

a. Type of Filing: Notice of Intent to File License Application and Request to Use the Traditional Licensing Process.

b. Project No.: 14217-000.

c. Date Filed: June 28, 2011.

d. Submitted By: Ogden City Corporation.

e. Name of Project: Pineview Water Treatment Plant 25kW Hydroelectric Project.

f. Location: On Wheeler Creek and the Ogden River, in Weber County, Utah. The proposed project may occupy of United States lands administered by the U.S. Department of Agriculture's U.S. Forest Service and/or the Department of the Interior's Bureau of Reclamation.

g. Filed Pursuant to: 18 CFR 5.3 of the Commission's regulations.

h. Potential Applicant Contact: Ken Gradner, Gardner Engineering Alternative Energy Services, 5875 South Adams Ave. Parkway, Ogden, Utah 84405; (801) 589-0447; email—ken@gardner-energy.com.

i. FERC Contact: Kenneth Hogan at (202) 502-8434; or email at: kenneth.hogan@ferc.gov.

j. Ogden City Corporation filed its request to use the Traditional Licensing Process on June 28, 2011. Ogden City Corporation provided public notice of its request on March 29, 2012. In a letter dated June 15, 2012, the Director of the Division of Hydropower Licensing approved Ogden City Corporation request to use the Traditional Licensing Process.

k. With this notice, we are initiating informal consultation with: (a) The US Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the Utah State Historic Preservation Officer, as required by section 106, National Historical Preservation Act, and the implementing regulations of the Advisory Council on Historic Preservation at 36 CFR 800.2.

l. Ogden City Corporation filed a Pre-Application Document (PAD) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

n. Register online at http://www.ferc.gov/docs-filing/esubscription.asp to be notified via email of new filing and issuances related to this or other pending projects. For assistance, contact FERC Online Support.

Dated: June 15, 2012.
Kimberly D. Bose,
Secretary.

[FR Doc. 2012-15252 Filed 6-21-12; 8:45 am]

BILLING CODE 6717-01-P